DEPARTMENT OF HOMELAND SECURITY

8 CFR Parts 1, 208, 209, 212, 214, 217, 235, 245, 274a, 286, and 299

[CIS No. 2460-08; DHS Docket No. USCIS-2008-0039]

RIN 1615-AB77

DEPARTMENT OF JUSTICE

Executive Office for Immigration Review

8 CFR Parts 1001, 1208, 1209, 1212, 1235, 1245 and 1274a

[EOIR Docket No. 169 AG Order No. 3120-2009]

RIN 1125-AA67

Application of Immigration Regulations to the Commonwealth of the Northern Mariana Islands

AGENCY: U.S. Citizenship and Immigration Services, DHS; Executive Office for Immigration Review, DOJ.

ACTION: Interim final rule; correcting amendment.

SUMMARY: With this amendment, the Department of Homeland Security (DHS) corrects an inadvertent error that was made in the interim final rule, Application of Immigration Regulations to the Commonwealth of the Northern Mariana Islands, published in the Federal Register on October 28, 2009, at 74 FR 55725.

DATES: This rule is effective December 22, 2009.

FOR FURTHER INFORMATION CONTACT: Fred Ongcapin, U.S. Citizenship and Immigration Services, Department of Homeland Security, 20 Massachusetts Avenue, NW., 2nd Floor, Washington, DC 20529-2211, telephone (202) 272-8221 (not a toll-free call).

SUPPLEMENTARY INFORMATION:

Need for Correction

On October 28, 2009, the Department of Homeland Security, and Department of Justice, published an interim rule in the Federal Register at 74 FR 55725, implementing conforming amendments to their respective regulations to comply with the Consolidated Natural Resources Act of 2008 (CNRA). The CNRA extends the immigration laws of the United States to the Commonwealth of the Northern Mariana Islands (CNMI).

In the amendment to 8 CFR 299.1 and 8 CFR 299.5, DHS inadvertently omitted the edition date and OMB Control Number for the new Form I-9 CNMI, “CNMI Employment Eligibility Verification.”

Correction of Publication

Accordingly, title 8, part 299 is corrected as follows:

PART 299—IMMIGRATION FORMS

§ 299.1 [Corrected]

1. In § 299.1, in the table, revise the edition date for the “Form I-9 CNMI” from “xx-xx-xx” to read: “11-12-09”.

§ 299.5 [Corrected]

2. In § 299.5, in the table, revise the currently assigned OMB control number for “Form I-9 CNMI” from “1615-XXXX” to read “1615-0112”.

Christina E. McDonald,
Deputy Associate General Counsel for Regulatory Affairs, Department of Homeland Security.

[FR Doc. E9-30287 Filed 12-21-09; 8:45 am]

BILLING CODE 9111-97-P